FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 19, 2021.

A. Federal Reserve Bank of Kansas City (Dennis Denney, Assistant Vice President) 1 Memorial Drive, Kansas City, Missouri 64198-0001:

1. The Dreiseszun Grandchildren Trust, the Helene Kramer Trust, the Chad M. Feingold Grantor Trust, the Chad M. Feingold Irrevocable Insurance Trust, the Erika R. Feingold Irrevocable Insurance Trust, the Erika R. Feingold Grantor Trust, the Jeremy Morgan Family Irrevocable Trust, the Marilyn J. Feingold Trust #2, the Mark A. Morgan Family Irrevocable Trust, the Mark A. Morgan Trust #2, the Michael B. Morgan Trust #2, the Thomas S. Morgan Family Irrevocable Trust, the Thomas S. Morgan Trust #2, the Timothy Morgan Irrevocable Trust, the Todd D. Morgan Trust #2, the Avi Velasquez Irrevocable Trust, the Marley Blake Velasquez Irrevocable Trust, and the Mia M. Velasquez Irrevocable Trust, Gregory Sherman, as trustee or co-trustee, all of Overland Park, Kansas; to become members of the Sherman Control Group, a group acting in concert, to retain voting shares of Valley View Bancshares, Inc., Overland Park, Kansas, and thereby indirectly retain voting shares of Security Bank of Kansas City, Kansas City, Kansas.

Board of Governors of the Federal Reserve System, March 1, 2021.
Michele Taylor Fennell,
Deputy Associate Secretary of the Board.

[FR Doc. 2021-04488 Filed 3-3-21; 8:45 am]

BILLING CODE P